DEPARTMENT OF ENERGY

Federal Energy Regulatory Commission

[Project No. 2594-013-MT]

Northern Lights, Inc.; Notice of Availability of Environmental Assessment

May 27, 2010.

In accordance with the National Environmental Policy Act of 1969 and the Federal Energy Regulatory Commission (Commission) regulations, 18 CFR part 380 (Order No. 486, 52 FR 47879), the Office of Energy Projects has reviewed the application for a new license for the existing Lake Creek Hydroelectric Project, located on Lake Creek in Lincoln County, Montana, near the City of Troy and prepared a draft environmental assessment (EA). The project does not occupy Federal lands.

The draft EA contains the staff's analysis of the potential environmental impacts of the project and concludes that licensing the project would not constitute a major federal action that would significantly affect the quality of the human environment.

A copy of the draft EA is on file with the Commission and is available for public inspection. The draft EA may also be viewed on the Commission's Web site at http://www.ferc.gov using the “eLibrary” link. Enter the docket number excluding the last three digits in the docket number field to access the document. For assistance, contact FERC Online Support at FERCOnlineSupport@ferc.gov or toll-free at 1-866-208-3676, or for TTY, (202) 502-8659. You may also register online at http://www.ferc.gov/docs-filing/esubscription.asp to be notified via e-mail of new filings and issuances related to this or other pending projects. For assistance, contact FERC Online Support.

Any comments should be filed within 30 days from the issuance date of this notice, and should be addressed to the Secretary, Federal Energy Regulatory Commission, 888 First Street, NE., Room 1-A, Washington, DC 20426. Please affix “Lake Creek Project No. 2594-013” to all comments. Comments may be filed electronically via Internet in lieu of paper.

The Commission strongly encourages electronic filings. See 18 CFR 385.2001(a)(1)(iii) and the instructions on the Commission's Web site under the “eFiling” link. For further information, contact Shana Murray at (202) 502-8333.

Kimberly D. Bose,
Secretary.

[FR Doc. 2010-13368 Filed 6-2-10; 8:45 am]

BILLING CODE 6717-01-P